DEPARTMENT OF TRANSPORTATION

National Highway Traffic Safety Administration

[Docket No. NHTSA-2020-0018]

Agency Information Collection Activities; Notice and Request for Comment; Reducing the Illegal Passing of School Buses

AGENCY: National Highway Traffic Safety Administration (NHTSA), Department of Transportation (DOT).

ACTION: Notice and request for public comment on a request for approval of a proposed new collection of information.

SUMMARY: NHTSA invites public comments about its intention to request approval from the Office of Management and Budget (OMB) for a new collection of information. Before a Federal agency can collect certain information from the public, it must receive approval from the OMB. Under procedures established by the Paperwork Reduction Act of 1995, before seeking OMB approval, Federal agencies must solicit public comment on proposed collections of information, including extensions and reinstatements of previously approved collections. This document describes an Information Collection Request (ICR) for which NHTSA intends to seek OMB approval.

DATES: Comments must be received on or before September 15, 2020.

ADDRESSES: You may submit comments identified by Docket Number NHTSA-2020-0018 through any of the following methods:

• Electronic Submissions: Go to http://www.regulations.gov. Follow the online instructions for submitting comments.

• Mail: Docket Management Facility. M-30, U.S. Department of Transportation. 1200 New Jersey Avenue SE, West Building Ground Floor, Room W12-140, Washington, DC 20590.

• Hand Delivery or Courier: Docket Management, U.S. Department of Transportation, 1200 New Jersey Avenue SE, West Building, Room W12-140, Washington, DC 20590, between 9 a.m. and 5 p.m., Monday through Friday, except on Federal holidays. To be sure someone is there to help you, please call (202) 366-9322 before coming.

• Fax: 1-202-493-2251.

Instructions: Each submission must include the Agency name and the docket number for this proposed collection of information. Note that all comments received will be posted without change to http://www.regulations.gov, including any personal information provided. Please see the Privacy heading below.

• Privacy Act: Anyone is able to search the electronic form of all comments received into any of our dockets by the name of the individual submitting the comment (or signing the comment, if submitted on behalf of an association, business, labor union, etc.). You may review DOT's complete Privacy Act Statement in the Federal Register, published on April 11, 2000 (65 FR 19477-78), or you may visit http://www.dot.gov/privacy.html.

• Docket: For access to the docket to read background documents or comments received, go to http://ww.regulations.gov or the street address listed above. To be sure someone is there to help you, please call (202) 366-9322 before coming. Follow the online instructions for accessing the dockets.

FOR FURTHER INFORMATION CONTACT: For additional information or access to background documents, contact Kristin Rosenthal, Highway Safety Specialist, Safety Countermeasures Division, Office of Research and Program Development, National Highway Traffic Safety Administration, 1200 New Jersey Avenue SE, W44-213, Washington, DC 20590. Ms. Rosenthal's phone number is 202-366-8995, and her email address is Kristin.Rosenthal@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, e.g., permitting electronic submissions of responses. In compliance with these requirements, NHTSA asks for public comment on the following proposed collection of information for which the agency is seeking approval from OMB:

Title: Reducing the Illegal Passing of School Buses.

OMB Control Number: New.

Form Number: 1559.

Type of Information Collection Request: Request for approval of a new information collection.

Type of Review Requested: Regular.

Requested Expiration Date of Approval: Three years from date of approval.

Summary of the Collection of Information: The National Highway Traffic Safety Administration (NHTSA) was established by the Highway Safety Act of 1970 to reduce deaths, injuries, and economic losses due to road traffic crashes on the Nation's highways. Even though every State has a law requiring drivers to stop for a stopped school bus displaying flashing red lights, illegal passing of stopped school buses is a frequent occurrence all across the country. Title 23 of the United States Code, Chapter 4, Section 403, gives the Secretary authorization to use funds appropriated to conduct research and development activities, including demonstration projects and the collection and analysis of highway and motor vehicle safety data and related information needed to carry out this section. NHTSA seeks to assess the knowledge of drivers nationwide about the laws governing passing a school bus (under the specific State laws where the driver lives) as a function of varying roadway configurations, flashing yellow and red light deployment on the school bus, and activation of the stop arm on the bus. To make this assessment, NHTSA intends to conduct research that will consist of two methods of survey collection data from drivers of motor vehicles. First (Study 1), NHTSA will conduct a national survey, involving respondents who volunteer to participate through AmeriSpeak,¹ which will take place in the respondent's home or wherever the respondent chooses to operate a computer, laptop, tablet, or other mobile device they provide for screening and data collection. Second (Study 2), NHTSA will conduct community surveys that occur in two communities and will involve surveys before and after implementation of a program designed to increase driver awareness of laws governing passing a school bus. Screening and data collection for the community surveys will take place on a computer or tablet provided by the study at a public venue frequented by drivers across the socioeconomic and demographic spectra, such as a mall or motor vehicle department office. All collection of data will be anonymous. AmeriSpeak provides data to clients with an anonymous record identification number. The community survey does not collect any personal identifying data from the participant.

¹ AmeriSpeak, created by the National Opinion Research Center (NORC) at the University of Chicago, is a probability-based panel designed to be representative of the U.S. household population to take part in surveys.

Study 1 will use an internet-hosted survey of a nationally representative sample of drivers to determine their knowledge of and attitudes towards laws regarding passing of stopped school buses, as well as their opinions on the safest driver behaviors when encountering a school bus on the roadway. Study 2 will be a field study in two communities with differing levels of camera enforcement of school bus passing laws to examine the effectiveness of an automated school bus camera enforcement system combined with high-visibility police enforcement and public education in reducing school bus passing violations. Survey data collection in the test communities will examine awareness of the enforcement and camera programs, driver knowledge of and attitudes towards school bus passing laws, and self-reported behavior when encountering a school bus on the roadway before and after program implementation.

Description of the Need for the Information and Proposed Use of the Information: NHTSA's mission is to save lives, prevent injuries, and reduce economic costs due to road traffic crashes, through education, research, safety standards and enforcement activity. The agency develops, promotes, and implements educational, enforcement, engineering, and emergency response programs with the goal of ending preventable tragedies and reducing economic costs associated with vehicle use and highway travel. Since1991 NHTSA has supported efforts to conduct national surveys focusing on different program areas to enhance its resources in those areas. NHTSA also conducts local community surveys which have a similar focus, but also allow the agency to conduct field research and demonstration programs and evaluate changes in community knowledge, attitudes, self-reported behavior, and awareness of program efforts.

One highway safety problem NHTSA has been following closely involves school children struck by passing motorists while going to or from a stopped school bus with its red lights flashing and its stop arm extended. Even though there have been some highly-publicized child fatalities of this type and the annual national stop-arm violation count by the National Association of State Directors of Pupil Transportation Services (NASDPTS) continues to show a surprisingly high incidence of these illegal passes, to date, no national survey has assessed the levels of driver knowledge and understanding of the laws regarding passing of school buses. The findings from this proposed collection of information will assist NHTSA in designing, targeting, and implementing programs intended to mitigate illegal passing of school buses on the roadways and to provide data to States, localities, and law enforcement agencies that will aid in their efforts to reduce crashes and injuries due to illegal school bus passing.

Affected Public (Respondents): Respondents for Study 1, the national survey, will be drawn from the panelists in the AmeriSpeak panel funded and operated by National Opinion Research Center (NORC) at the University of Chicago. AmeriSpeak is a probability-based panel designed to be representative of the U.S. household population. Randomly selected U.S. households are sampled with a known, non-zero probability of selection from the NORC National Sample Frame and then contacted by U.S. mail, email, telephone, and field interviewers (face to face) to recruit panelists. AmeriSpeak panelists participate in NORC studies or studies conducted by NORC on behalf of governmental agencies, academic researchers, and media and commercial organizations. Participation in research is voluntary at the time that respondents are asked to join the panel, at the time they are asked to participate in any particular survey, and at the time they answer any given question in a survey. Respondents from the AmeriSpeak panel will be compensated for their time in accordance with their agreement with NORC.

Study 2, the community surveys (before and after program implementation in two communities), will consist of volunteer respondents who are current motor vehicle drivers, aged 18 or older. Volunteers will be recruited while they are at selected locations, such as malls or motor vehicle offices where the desired respondent population is likely to be found and will receive compensation in return for volunteering.

Estimated Number of Respondents: To obtain at least 3,000 fully completed national surveys for Study 1, it is estimated that up to 3,400 AmeriSpeak panelists will have to be screened to obtain 3,100 qualified volunteers who take the national survey (100 of these volunteers are estimated not to complete the entire survey).

For the community surveys in Study 2, NHTSA estimates that 400 volunteers will have to be screened for each wave (400 for the before-program implementation and 400 for the after-program implementation) for each of the two communities. Therefore, a total of 1,600 volunteers will have to be screened for the estimated yield of 300 completed surveys for each wave for the two communities, or 1,200 fully completed surveys.

Frequency of Collection: Respondents will only respond to the national survey request a single time during the study period. The community survey will be conducted twice at the same locations in each of the two selected communities over a period of approximately 10 months. Therefore, an extremely small possibility exists that an individual might be invited to participate more than once for the community survey.

Estimated Time per Participant: Both the national and community surveys will be administered via an internet-hosted survey on a tablet or other small computer. The national and community surveys will have the same core items related to knowledge of and attitudes towards school bus passing laws. The community survey will have additional items about awareness of countermeasure program activities and basic respondent demographic information. Demographic information for the panelists in the national survey is part of their AmeriSpeak profile. The intent is for each participant to complete a survey only once. However, no identifying information will be collected for the community survey, so a slight possibility exists that an individual will participate more than once. The estimated average time to complete the survey per participant in either the national or community samples is 15 minutes. The screening involving (1) reading a recruitment communication, such as an email or listening to a researcher describe the study, and (2) determining an individual's eligibility (e.g., 18+ years old, current driver, lives in the community being studied) can take up to three minutes for the community surveys and two minutes for the national survey.

Total Estimated Burden Hours: It is estimated that for the 3,400 AmeriSpeak panelists that will have to be screened, the estimated total burden is 113 hours (3,400 × 2 min./60). For the 3,100 qualified volunteers who take the national survey, the estimated total burden hours is 775 hours (3,100 × 15 min./60), yielding at least 3,000 fully completed surveys. Likewise, it is estimated that the total estimated burden for the maximum of 1,600 potential participants to be screened for the community survey (400 per wave × 2 communities × 2 waves) is 80 hours (1,600 × 3 min./60). The estimated total burden hours for the 1,200 fully completed surveys (300 per wave × 2 communities × 2 waves) is 300 hours (1,200 × 15 min./60). The only cost to participants will be time spent responding to the screening and the subsequent survey if they volunteer. Participants who volunteer and begin the survey will receive compensation for this time. Table 1 provides a summary of the burden hours per survey.

Participant group | Form name | Number of responses per participant | Estimated burden per response (min.) | Number of participants | Total burden hours
National Survey | Screening | 1 | 2 | 3,400 | 113
National Survey | Online Survey | 1 | 15 | 3,100 | 775
Community Survey | Screening | 1 | 3 | 1,600 | 80
Community Survey | Online Survey | 1 | 15 | 1,200 | 300
Total |  |  |  |  | 1,268

Estimated Annualized Burden Hours: 1,268 hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Issued in Washington, DC.
Nanda Narayanan Srinivasan,
Associate Administrator, Research and Program Development.

[FR Doc. 2020-15445 Filed 7-16-20; 8:45 am]

BILLING CODE 4910-59-P